FEDERAL MARITIME COMMISSION

Sunshine Act Meeting

Time and Date: 1:30 p.m.—June 25, 2002.

Place: 800 North Capitol Street, NW., First Floor Hearing Room, Washington, DC.

Status: A portion of the meeting will be open and the remainder will be closed.

Matters to be Considered:

The Open Portion of the Meeting

1. Docket No. 02-07—Financial Responsibility Requirements for Nonperformance of Transportation—Discontinuance of Self-Insurance and the Sliding Scale, and Guarantor Limitations Passenger Vessel Operator Program: Issues Regarding Financial Coverage for Performance of Cruises.

2. Letter to Congress Regarding Commission Concerns About Casualty and Nonperformance Coverage Passenger Vessel Operator Program: Issues Regarding Financial Coverage for Performance of Cruises.

The Closed Portion of the Meeting

1. Petition No. P1-02—Petition of the National Customs Brokers and Forwarders Association of America, Inc. and the International Association of NVOCCS, Inc. for an Investigation of the Contracting Practices of the Transpacific Stabilization Agreement.

2. Controlled Carrier Issues.

3. Agreement No. 011807—Ocean Common Carrier Status of Shanghai Hai Hua Shipping Co., Ltd. and SNL/HASCO Cross Space Charter and Sailing Agreement.

4. Docket No. 00-11—New Orleans Stevedoring Company v. Board of Commissioners of the Port of New Orleans.

CONTACT PERSON FOR FURTHER INFORMATION: Bryant L. VanBrakle, Secretary, (202) 523-5725.

Bryant L. VanBrakle,
Secretary.

[FR Doc. 02-15821 Filed 6-18-02; 4:51 pm]

BILLING CODE 6730-01-M